DEPARTMENT OF HOUSING AND URBAN DEVELOPMENT

[Docket No. FR-7006-N-12]

60-Day Notice of Proposed Information Collection: Public Housing 5-Year and Annual PHA Plan and MTW Supplement to the PHA Plan

AGENCY: Office of the Assistant Secretary for Public and Indian Housing, PIH, HUD.

ACTION: Notice.

SUMMARY: HUD is seeking approval from the Office of Management and Budget (OMB) for the information collection described below. In accordance with the Paperwork Reduction Act, HUD is requesting comment from all interested parties on the proposed collection of information. The purpose of this notice is to allow for 30 days of public comment.

DATES: Comments Due Date: December 10, 2018.

ADDRESSES: Interested persons are invited to submit comments regarding this proposal. Comments should refer to the proposal by name and/or OMB Control Number and should be sent to: Colette Pollard, Reports Management Officer, QDAM, Department of Housing and Urban Development, 451 7th Street SW, Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION CONTACT: Arlette Mussington, Office of Policy, Programs and Legislative Initiatives, PIH, Department of Housing and Urban Development, 451 7th Street SW, Room 3178, Washington, DC 20410; telephone 202-402-4109, (this is not a toll-free number). Persons with hearing or speech impairments may access this number via TTY by calling the Federal Information Relay Service at (800) 877-8339. Copies of available documents submitted to OMB may be obtained from Ms. Mussington.

SUPPLEMENTARY INFORMATION: This notice informs the public that HUD is seeking approval from OMB for the information collection described in Section A.

A. Overview of Information Collection

Title of Information Collection: Public Housing Agency 5-Year and Annual Plan and MTW Supplement to the PHA Plan.

OMB Approval Number: 2577-0226.

Type of Request: Revision of currently approved collection.

Form Number(s): HUD-50075-5Y, HUD-50075-ST, HUD-50075-SM, HUD-50075-HCV, HUD-50075-HP, HUD-50075-MTW, HUD-50077-CR, HUD-50077-SL, HUD-50077-CRT-SM, and HUD-50077-ST-HCV-HP.

Description of the need for the information and proposed use: The Public Housing Agency (PHA) Plan was created by section 5A of the United States Housing Act of 1937 (42 U.S.C. 1437c-1). There are two different PHA Plans: The Five-Year Plan and the Annual Plan. The Five-Year Plan describes the agency's mission, long-range goals and objectives for achieving its mission over a five-year period. The Annual PHA Plan is a comprehensive guide to PHA policies, programs, operations, and strategies for meeting local housing needs and goals. This revision integrates the MTW Supplement to the Annual PHA Plan process for PHAs that join MTW under the 2016 Appropriations Act (i.e., MTW Expansion).

The PHA Plans informs HUD, residents, and the public of the PHA's mission for serving the needs of low, very low-income, and extremely low-income families and its strategy for addressing those needs. This information helps provide accountability to the local community for how PHAs spend their funding and implement their policies. Also, PHA plans allow HUD to monitor the performance of programs and the performance of public housing agencies that administer them.

HUD's most recent action in July of 2016 was to revise the collection in response to public comments urging HUD to return to earlier multiple versions of the PHA Plan templates by specific PHA type (e.g. standard, small, high performer, Section 8 only) instead of a “One-Size Fits All” form. HUD also added a section to accommodate the new requirements of the Affirmatively Furthering Fair Housing (AFFH) Rule, other public comments from 2013, and a minor change made in late 2014. OMB approved the changes as a full revision, but the 2016 versions of the forms were not made public due to ongoing changes to AFFH policies.

With this current proposed information collection, HUD intends to add a new template titled HUD-50075-MTW, and further modify the 5-Year and Annual PHA Plan Templates as well as the accompanying certifications in the following manner:

(1) Revise the instructions provided on the Assessment of Fair Housing (AFH) ensuring that program participants continue to conduct the Analysis of Impediments (AI) to fair housing until they are required to submit an AFH.

(2) Create a new section on all certifications to give program participants the option to add an explanation when they cannot certify to being fully compliant with the stated regulations.

(3) Specify on related certifications that the signed acknowledgement of the `authorizing official' must be of the PHA Executive Director (ED) and Board Chairperson.

(4) Add the Moving to Work (MTW) Supplement template to the collections which will serve as the reporting mechanism to the Department for the new 100 MTW agencies that will be designated pursuant to the MTW Expansion authorized by the Appropriations Act of 2016 (i.e., MTW Expansion).

Finally, the burden hours of the collection will increase by 600 hours due to an estimated 6.0 hours needed per MTW Supplement applicable to 100 new MTW agencies. However, it should be noted that, due to the de-coupling of Capital Fund Program activities from PHA Plan submissions in 2016, (HUD-50075.1 and HUD-50075.2 Capital Fund Annual Statement/Performance and Evaluation Report and 5-Year Action Plan forms), the associated burden hours (10,070) were removed from the approval for the PHA Plan under OMB no. 2577-0226. Therefore, the added burden of the MTW Supplement is relatively minor.

Revisions are made to this collection to reflect adjustments in calculations based on the total number of current, active public housing agencies (PHAs) to date. The number of active public housing agencies has changed from 3,819 to 3,780 since the last approved information collection. The number of PHAs can fluctuate due to many factors, including but not limited to performance scoring, the merging of two or more PHAs or the termination of the public housing and/or voucher programs due to the Rental Assistance Demonstration (RAD).

Respondents (i.e., affected public): Local, Regional and State Body Corporate Politic Public Housing Agencies (PHAs) Governments.

Estimated Number of Respondents: 3,780.

Estimated Number of Responses: 4,832 (Annual Plan: 1,052 and 5 Year Plan: 3,780).

Frequency of Response: Every five years for all PHAs, annually for all PHAs except HERA Qualified PHAs.

Average Hours per Response: 6.2 hrs.

Total Estimated Burdens: 12,371.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. Chapter 35.

Dated: September 26, 2018.
Merrie Nichols-Dixon,
Director, Office of Policy, Program and Legislative Initiatives.

[FR Doc. 2018-21861 Filed 10-5-18; 8:45 am]

BILLING CODE 4210-67-P